DEPARTMENT OF HOMELAND SECURITY

Federal Emergency Management Agency

[Docket ID FEMA-2021-0026; OMB No. 1660-NW134]

Agency Information Collection Activities: Proposed Collection; Comment Request; FEMA Pandemic Personnel Facility Access

AGENCY: Federal Emergency Management Agency, Department of Homeland Security.

ACTION: 60 Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning a new collection. FEMA seeks to collect information from civilians and contractors, including vaccination information and personal information, for access to FEMA facilities.

DATES: Comments must be submitted on or before April 4, 2022.

ADDRESSES: To avoid duplicate submissions to the docket, please submit comments at www.regulations.gov under Docket ID FEMA-2021-0026. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Stacey Buccigross, Training & Process Improvement Manager for the COVID-19 Task Force, FEMA's Office of the Chief Administrative Officer Environmental, Safety & Health Division, Medial Branch, by telephone at (202) 718-3195 or via email at Stacey.Buccigross@fema.dhs.gov. You may contact the Information Management Division for copies of the proposed collection of information at email address: FEMA-Information-Collections-Management@fema.dhs.gov.

SUPPLEMENTARY INFORMATION: FEMA is collecting additional information related to non-Federal employees during contact tracing, as authorized by DHS/ALL-047 Records Related to DHS Personnel, Long-Term Trainees, Contractors, Mission Support Individuals, and Visitors During a Declared Public Health Emergency.

This update allows a reporting individual to provide information related to a COVID-19, to impacted individuals and suspected close contact individuals. Additional information that FEMA will now begin to collect include names and phone numbers. Other individual information may be provided that is directly related to the disease or illness (e.g., testing results, symptoms, treatments, source of exposure) and FEMA contact tracers will contact all individuals who may be close contacts to inform them of the potential exposure. At that time, the close contact individual will have the option to provide additional information.

FEMA's Environmental Safety and Health (ESH) Division manages contact tracing within FEMA facilities. Individuals who report to their supervisors a suspicion of COVID-19 related symptoms will have their report tracked via a SharePoint site. Information is provided by individuals using a front-end form housed on the SharePoint site, or through a phone call to a helpline monitored by the Contact Tracing Team. In the case of a report via phone, the individual who received the call will manually enter the data into the SharePoint site. This allows FEMA to track any potential exposure to other individuals and facilities. Additionally, FEMA will use the site to contact the employee and potentially those who may have been exposed.

The SharePoint site allows two levels of permission access. The first is for all individuals with access to the FEMA Enterprise Network. Those individuals will have permission only to the submission form and to view records that they created. The second is for individuals with access to all the information that has been submitted. This is strictly limited to the FEMA ESH and individuals appointed as contact tracers by ESH.

Reports include COVID-19 symptoms present, presumptive positive, and confirmed positive/negative cases. FEMA will update the report periodically until the individual has been cleared to return to work. Also, an individual can provide FEMA with a date referencing their first medical service received related to COVID-19 and vaccination status. When a report is received, the SharePoint site creates a case ID. This is an auto-generated number that is formulated based on the state the individual reports from and the date of report.

If a report is called into the helpline related to visitors or short-term students at or on buildings, grounds, and properties that are owned, leased, or used by FEMA, the individual that was at a FEMA facility can submit a report of possible COVID-19 related symptoms to the Contact Tracing Team.

Collection of Information

Title: FEMA Pandemic Personnel Facility Access.

Type of Information Collection: New information collection.

OMB Number: 1660 NW134.

FEMA Forms: FEMA Form FF-119-FY-22-107, Authorized Tracer Entry Form; FEMA Form FF-119-FY-22-108, Authorized Tracer Warning Page; FEMA Form FF-119-FY-22-109, CCMT Sandbox Forms; FEMA Form FF-119-FY-22-110, Contact Tracer Entry Updated Warning Page; FEMA Form FF-119-FY-22-111, DHS Employee Confirm Submission; FEMA Form FF-119-FY-22-112, DHS Employee Warning Page; FEMA Form FF-119-FY-22-113, DHS Entry Form; FEMA Form FF-119-FY-22-114, Entry Update Portal; FEMA Form FF-119-FY-22-115, Facility Manager Confirm Submission; FEMA Form FF-119-FY-22-117, Facility manager Update Form; FEMA Form FF-119-FY-22-118, Facility Manager Update Warning Page; FEMA Form FF-119-FY-22-119, Form A; FEMA Form FF-119-FY-22-120, Form B; FEMA Form FF-119-FY-22-121, Form C; FEMA Form FF-119-FY-22-122, New Entry Portal; FEMA Form FF-119-FY-22-123, Non-DHS Confirm Submission; FEMA Form FF-119-FY-22-124, Non-DHS Entry Form; FEMA Form FF-119-FY-22-125, Non-DHS Warning Page.

Abstract: This collection is a collection from civilians and contractors, including vaccination information and personal information, for access to FEMA facility.

Affected Public: Individuals or Households; State, local or tribal government.

Estimated Number of Respondents: 750.

Estimated Number of Responses: 4,000.

Estimated Total Annual Burden Hours: 1,063.

Estimated Total Annual Respondent Cost: $41,723.

Estimated Respondents' Operation and Maintenance Costs: $0.

Estimated Respondents' Capital and Start-Up Costs: $0.

Estimated Total Annual Cost to the Federal Government: $210,542.

Comments

Comments may be submitted as indicated in the ADDRESSES caption above.

Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch, Team Lead, Office of the Chief Administrative Officer, Mission Support, Federal Emergency Management Agency, Department of Homeland Security.

[FR Doc. 2022-02223 Filed 2-2-22; 8:45 am]

BILLING CODE 9111-19-P